DEPARTMENT OF LABOR

Employment and Training Administration

[TA-W-53,152]

FMC Measurement Solutions, Erie, PA; Notice of Termination of Investigation

Pursuant to Section 221 of the Trade Act of 1974, as amended, an investigation was initiated on October 6, 2003, in response to a worker petition filed by the United Automobile, Aerospace and Agricultural Implement Workers of America (UAW), Local 714, on behalf of workers at FMC Measurement Solutions, Erie, Pennsylvania.

The Department issued a negative determination applicable to the petitioning group of workers on September 10, 2003 (TA-W-52,576). No new information or change in circumstances is evident which would result in a reversal of the Department's previous determination. Consequently, further investigation would serve no purpose, and the investigation has been terminated.

Signed at Washington, DC, this 20th day of October, 2003.
Richard Church,
Certifying Officer, Division of Trade Adjustment Assistance.

[FR Doc. 03-29269 Filed 11-21-03; 8:45 am]

BILLING CODE 4510-30-P